DEPARTMENT OF COMMERCE

National Oceanic and Atmospheric Administration

[RTID 0648-XB509]

Marine Mammals; File No. 25943

AGENCY: National Marine Fisheries Service (NMFS), National Oceanic and Atmospheric Administration (NOAA), Commerce.

ACTION: Notice; receipt of application.

SUMMARY: Notice is hereby given that Stephen John Trumble, Ph.D., Baylor University, 101 Bagby Ave., Waco, TX 76706, has applied in due form for a permit to import, export, and receive parts from cetaceans for scientific research.

DATES: Written, telefaxed, or email comments must be received on or before November 15, 2021.

ADDRESSES: The application and related documents are available for review by selecting “Records Open for Public Comment” from the “Features” box on the Applications and Permits for Protected Species (APPS) home page, https://apps.nmfs.noaa.gov, and then selecting File No. 25943 from the list of available applications. These documents are also available upon written request via email to NMFS.Pr1Comments@noaa.gov.

Written comments on this application should be submitted via email to NMFS.Pr1Comments@noaa.gov. Please include File No. 25943 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to import, export, and receive cetacean parts for scientific research to chronologically profile anthropogenic contaminants, physiological stress, and reproductive hormones from cetaceans to determine influence of anthropogenic and environmental stressors. Parts from up to 100 individuals of each of the following species may be obtained annually: Blue (Balaenoptera musculus), bowhead (Balaena mysticetus), Bryde's (B. edeni), fin (B. physalus), gray (Eschrichtius robustus), humpback (Megaptera novaeangliae), minke (B. acutorostrata), North Atlantic right (Eubalaena glacialis), North Pacific right (E. japonica), Rice's (Balaenoptera ricei), sei (B. borealis), Southern right (E. australis), and sperm (Physeter macrocephalus) whales, and unidentified cetaceans. The requested duration of the permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 12, 2021.
Julia M. Harrison,
Chief, Permits and Conservation Division, Office of Protected Resources, National Marine Fisheries Service.

[FR Doc. 2021-22539 Filed 10-14-21; 8:45 am]

BILLING CODE 3510-22-P